NATIONAL SCIENCE FOUNDATION

Special Emphasis Panel in Chemistry; Notice of Meeting

In accordance with the Federal Advisory Committee Act (Pub. L. 92-463, as amended), the National Science Foundation announces the following meeting:

Name: Special Emphasis Panel in Chemistry (#1191).

Date and Time: January 23, 2001; 8:30 a.m.-5 p.m. and January 24, 2001; 8 a.m.-12 noon.

Place: Department of Chemistry, University of New Mexico, Albuquerque, NM.

Type of Meeting: Closed.

Contact Person: Dr. John Stevens, Program Officer, Division of Chemistry, Room 1055, National Science Foundation, 4201 Wilson Boulevard, Arlington, VA 22230. Telephone: (703) 292-4958.

Purpose of Meeting: To provide advice and recommendations concerning the University of New Mexico Research Site for Educators in Chemistry, submitted to NSF for financial support.

Agenda: To review and evaluate the progress to date on all aspects of the Research Site.

Reason for Closing: The project being reviewed includes information of a proprietary or confidential nature, including technical information, financial data such as salaries, and personal information concerning individuals associated with the proposals. These matters are exempt under 5 U.S.C. 552b(c), (4) and (6) of the Government in the Sunshine Act.

Dated: December 13, 2000.
Karen J. York,
Committee Management Officer.

[FR Doc. 00-32458 Filed 12-20-00; 8:45 am]

BILLING CODE 7550-01-M